DEPARTMENT OF THE INTERIOR

Office of the Secretary

[Docket No. ONRR-2012-0003]

15-Day Extension of Call for Nominations for the U.S. Extractive Industries Transparency Initiative Advisory Committee

AGENCY: Office of Natural Resources Revenue, U.S. Department of the Interior.

ACTION: Notice.

SUMMARY: The United States Department of the Interior (DOI) published a request for nominees and comments on July 27, 2012. Subsequently, DOI published a 30-day extension of this nomination period. This Federal Register Notice extends the nomination and comment period end date by an additional 15 days.

DATES: Nominations will be accepted through October 11, 2012.

ADDRESSES: You may submit nominations to the Committee by any of the following methods.

• Mail or hand-carry nominations to Ms. Shirley Conway; Department of the Interior; Office of Natural Resources Revenue; 1849 C Street NW—MS 4211; Washington, DC 20240.

• Email nominations to Shirley.Conway@onrr.gov or EITI@ios.doi.gov.

FOR FURTHER INFORMATION CONTACT: Ms. Shirley Conway, Office of Natural Resources Revenue; telephone (202) 513-0598; fax (202) 513-0682; email Shirley.Conway@onrr.gov. Mailing address: Department of the Interior; Office of Natural Resources Revenue; 1849 C Street NW.—MS 4211; Washington, DC 20240.

SUPPLEMENTARY INFORMATION: On July 27, 2012, the Department published in the Federal Register a notice of establishment of the United States Extractive Industries Transparency Initiative (USEITI) Multi-Stakeholder Group (MSG). This notice also included a request for nominees and comments under a standard 30-day period. In response to feedback and public requests, the Department extended this period for an additional 30 days to September 26, 2012. To maximize the opportunity for nominee submissions, the Department is extending this nomination period for an additional 15 days. The new nomination and comment period ends October 11, 2012. If you have already submitted your nomination materials, you are not required to resubmit.

Dated: September 25, 2012.
Paul A. Mussenden,
Deputy Assistant Secretary for Natural Resources Revenue Management.

[FR Doc. 2012-23940 Filed 9-26-12; 11:15 am]

BILLING CODE 4310-T2-P